DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 68 FR 62456-62469, dated November 4, 2003) is amended to reflect the consolidation CDC's information technology infrastructure functions into a single organizational component entitled the Information Technology Services Office.

Section C-B, Organization and Functions, is hereby amended as follows:

Following the title and functional statement for the Office of Security and Emergency Preparedness (CAJ8), Office of the Chief Operating Officer (CAJ), insert the following:

Information Technology Services Office (CAJ9). (1) Develops and coordinates CDC-wide plans, budgets, policies, and procedures for information technology (IT) infrastructure services including: desktop computing support, directory services, e-mail, helpdesk support, infrastructure software, IT security, networking, data center services, office automation, remote access, server management, videoconferencing, and telecommunications; (2) provides all IT infrastructure services for CDC; (3) provides consulting services, technical advice, and assistance across CDC in the effective and efficient use of IT infrastructure technologies, assets, and services to carry out mission activities, enhance personnel and organizational productivity, and develop information systems; (4) develops CDC's IT infrastructure architecture; (5) maintains state-of-the-art expertise in information technology and computer science; (6) conducts research and development, evaluation, and testing of new IT infrastructure technologies to support CDC's mission; (7) manages CDC's IT capital investments and CDC-wide IT acquisitions of infrastructure technologies; (8) implements CDC information technology security operations; (9) manages and coordinates CDC-wide IT continuity of operations and disaster recovery facilities ensuring integrity, availability, security, and recoverability of critical data and systems; (10) provides IT infrastructure support services by triaging and responding to requests for services, problem reports, and taking necessary actions; (11) coordinates with the CDC Corporate University to identify training and educational programs needed by staff to effectively use IT infrastructure technologies and services; (12) conducts the IT infrastructure program in compliance with applicable Federal laws, regulations, and policies.

Revise the mission statement for the Information Resources Management Office (CAJ5) as follows:

Delete item (1) and insert the following: (1) Develops and coordinates CDC-wide plans and budgets for the management of information technology and services.

Delete items (4) and (9) in their entirety. Delete from item (8) the word “equipment.”

Delete in their entirety the titles and functional statements for the Large Systems Computing Branch (CAJ52) and the Network Technology Branch (CAJ54).

Delete item (4) of the functional statement for the Financial Systems Branch (CAJ25), Financial Management Office (CAJ2), and insert the following: (4) responsible for financial systems application software and support utilized within the Financial Management Office and used officially across CDC.

Delete item (4) of the Functional statement for the Management Analysis Branch (CAJ64), Management Analysis and Services Office (CAJ6), and renumber the remaining items accordingly.

Delete item (7) of the functional statement for the Office of the Director (CAJ71), Procurement and Grants Office (CAJ7), and renumber the remaining items accordingly.

Delete the functional statement for the Information Resources Management Activity (CB132), Office of Program Management and Operations (CB13), Epidemiology Program Office (CB), and insert the following: (1) Provides technical information support to the communications, epidemiologic, surveillance, training, and prevention research activities of EPO; (2) provides interface with CDC and DHHS management systems; (3) plans, coordinates, and provides EPO-wide Information Resources Management (IRM) support and services; (4) represents EPO on a variety of IRM committees, task forces, and workgroups; (5) coordinates the utilization of data information systems and technologies.

Delete item (7) of the functional statement for the Office of Administrative Services (CC11), Office of the Director (CC1), National Institute for Occupational Safety and Health (CC), and inserting the following: (7) Coordinates the utilization of data processing services within the Institute.

Delete item (2) of the functional statement for the Administrative Services Branch (Spokane) (CC114), and insert the following: (2) Provides access to library and information services for Spokane Research Laboratory personnel.

Delete the functional statement for the Management Systems Branch (CC115) and insert the following: (1) Conducts management systems studies and provides technical services in the field of operations management; (2) provides for interface with CDC, PHS, and HHS management systems; (3) assures that all functional groups within the Institute have access to suitable and compatible data processing and services; (4) provides Institute-wide consultation assistance in data processing.

Delete item (6) from the functional statement for the Communication and Information Activity (CCA12), Office of the Director (CCA1), Division of Respiratory Disease Studies.

Delete item (3) from the functional statement for the Information Management and Dissemination Activity (CCB2), Division of Safety Research (CCB).

Delete item (7) of the functional statement for the Office of the Director (CH51), Division of Public Health Systems Development and Research (CH5, Public Health Practice Program Office (CH), and insert the following: (7) Establishes data systems and knowledge required to support State, local, and Divisional needs.

Delete item (11) from the functional statement for the Office of the Director (CJ1), National Immunization Program (CJ), and insert the following: (11) Provides administrative, fiscal, and information services for Program activities.

Delete item (7) from the functional statement for the Financial and Administrative Services Office (CK12), Office of the Director (CK1), National Center for HIV, STD, and TB Prevention (CK), and insert the following: (7) Provides oversight and management of NCHSTP conference rooms, support and coordination of Envision services and audio-visual equipment.

Delete item (8) from the functional statement for the Prevention Informatics Office (CK14), and insert the following: (8) Supports organizational components to disseminate or access information on the Internet.

Delete items (5) through (8) from the functional statement for the Information Technology and Statistics Branch (CK43), Division of Tuberculosis Elimination (CK4), and insert the following: (5) Provides technical assistance in the areas of IT systems and services to process information; (6) manages information security for the Division's information systems; (7) maintains application software systems; (8) provides training and consultation to headquarters and field staff in the use of application software.

Delete item (8) from the functional statement for the Epidemiology and Statistics Branch (CL42), Division of Diabetes Translation (CL4), National Center for Chronic Disease Prevention and Health Promotion (CL), and insert the following: (8) Provides information systems support for headquarters operation of the Division.

Delete item (3) from the functional statement for the Information Technology, Statistics, and Surveillance Branch (CL65), Division of Reproductive Health (CL6), and insert the following: (3) Determines and recommends software and information technology solutions for Division programs and projects.

Delete item (10) from the functional statement for the Office of the Director (CR1), National Center for Infectious Diseases (CR), and insert the following: (10) Provides leadership and support for NCID Programs in the areas of statistics and database management.

Delete item (15) from the functional statement for the Office of the Director (CR21), Division of Global Migration and Quarantine (CR2), and insert the following: (15) Evaluates new software for statistical analysis, database management, graphics production, geographic information systems, and other functions related to Division objectives.

Delete item (11) in the functional statement for the Office of the Director (CR21) and renumber the remaining items accordingly.

Delete item (8) from the functional statement for the Biostatistics and Information Management Branch (CRP3), Division of Bacterial and Mycotic Diseases (CRP), and insert the following: (8) Sets Division policy on statistical procedures, analysis of surveillance data, and procedures for data collection and processing.

Delete item (5) from the functional statement for the Biostatisics and Information Management Branch (CRP3) and renumber the remaining items accordingly.

Delete in their entirety the title and functional statement for the Information Management Section (CRP33).

Delete item (6) from the functional statement for the Data Management Activity (CRS-2), Division of Parasitic Diseases (CRS), and insert the following: (6) Evaluates new software for statistical analysis, database management, graphics production, geographical information systems, and other functions related to DPD objectives.

Delete item (2) from the functional statement for the Data Management Activity (CRS-2) and renumber remaining items accordingly.

Delete items (1) and (2) from the functional statement for the Information Technology Activity (CRU12), Office of the Director (CRU1), Division of Viral and Rickettsial Diseases (CRU), and renumber remaining items accordingly.

Delete item (5) from the functional statement for the Office of the Director (CR41), Division of Viral Hepatitis (CR4), and insert the following: (5) Provides leadership and oversight to the provision of state-of-the-art informatics for DVH, including information systems, computer programs, programming and data management support, and management of DVH internet and intranet websites.

Delete item (3) from the functional statement for the Office of Information Technology and Services (CS3), National Center for Health Statistics (CS), and insert the following: (3) Provides IRM policy coordination for the Center and systems contract support.

Delete items (4) and (8) from the functional statement for the Division of Information Technology (CS34) and insert the following: (4) Provides software consultation, database management, research, design, and support services needed by NCHS survey, registration and administrative systems, emphasizing projects which are not program specific; * * * (8) manages and administers contracts for Center-wide emerging information technology services.

Delete item (5) from the functional statement for the Division of Information Technology (CS34) and renumber remaining items accordingly.

Delete item (3) from the functional statement for the Office of the Director (CS341) and insert the following: (3) Evaluates and recommends new information technology software and methods in support of NCHS.

Delete item (2) from the functional statement for the Office of the Director (CS341) and renumber remaining items accordingly.

Delete items (1) and (3) from the functional statement for the Software Solutions and Engineering Branch (CS342) and insert the following: (1) Conducts and evaluates studies on emerging software technologies and methodologies for NCHS as input to the IT and IRM planning process and serves as a clearinghouse on these emerging technologies for NCHS; * * * (3) partners with NCHS programs, outside agencies and the States, to pilot the application of new software technologies and methodologies to meet NCHS-wide needs.

Delete in their entirety the title and functional statement for the Network Engineering Branch (CS343).

Delete item (6) from the functional statement for the Systems and Programming Branch (CS72), Division of Health Interview Statistics (CS7), and renumber remaining items accordingly.

Delete items (3) and (6) from the functional statement for the Informatics Branch (CS83), Division of Health and Nutrition Examination Surveys (CS8), and insert the following: (3) develops, implements, and supports technologies, data architectures, and database management for the Division's data collection and analytic programs consistent with state-of-the-art trends in computer and informatics research; * * * (6) develops and implements standards for the Division's data collection programs and data access (e.g., data dissemination, telemedicine applications).

Dated: November 10, 2003.
William H. Gimson,
Chief Operating Officer, Centers for Disease Control and Prevention (CDC).

[FR Doc. 03-29218 Filed 11-21-03; 8:45 am]

BILLING CODE 4160-18-M